COMMITTEE FOR THE IMPLEMENTATION OF TEXTILE AGREEMENTS

Termination of Further Consideration of Requests for Textile and Apparel Safeguard Action on Imports from China

November 23, 2005.

AGENCY: The Committee for the Implementation of Textile Agreements (the Committee).

ACTION: Notice.

SUMMARY: The Committee is terminating further consideration of requests for safeguard action on imports from China of twenty-four textile and apparel product categories.

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

Background:

Requests for China textile safeguard action based on the existence and/or threat of market disruption, on twenty-four textile and apparel product categories, were filed between November 12, 2004 and October 11, 2005, by a coalition of textile and apparel industry associations and a union representing textile and apparel industry workers. CITA accepted each of these requests for consideration and published notices in the Federal Register establishing a 30-day public comment period. The twenty-four product categories are:

Category | Description
222 | Knit fabric
226 | Cheesecloth, batistes, lawns/voiles
301 | Combed cotton yarn
332/432 & 632pt. | Cotton, wool & man-made fiber socks
338/339 | Cotton knit shirts & blouses
340/640 | Men's & boys' cotton & man-made fiber shirts, not knit
341/641 | Women's & girls' cotton & man-made fiber shirts & blouses, not knit
342/642 | Cotton & man-made fiber skirts
345/645/646 | Cotton & man-made fiber sweaters
347/348 | Cotton trousers
349/649 | Cotton & man-made fiber brassieres & other body supporting garments
350/650 | Cotton & man-made fiber dressing gowns & robes
351/651 | Cotton & man-made fiber nightwear & pajamas
352/652 | Cotton & man-made fiber underwear
359-S/659-S | Cotton & man-made fiber swimwear
363 | Cotton terry & other pile towels
369pt./666pt. | Curtains & drapery
443 | Men's & boys' wool suits
447 | Men's & boys' wool trousers
619 | Polyester filament fabric
620 | Other synthetic filament fabric
634/635 | Other men's & boys' man-made fiber coats & women's & girls' man-made fiber coats
638/639 | Man-made fiber knit shirts & blouses
647/648 | Man-made fiber trousers

The Committee's procedures state that it will make a determination within 60 calendar days of the close of the public comment period as to whether the United States will request consultations with China. The deadlines for determination on these cases range from November 30, 2005, through February 5, 2006.

On November 8, 2005, the Governments of the United States and the People's Republic of China signed a broad agreement concerning textile and apparel products. This Memorandum of Understanding was reached with a view to further developing the bilateral economic and trade relationship between the United States and China, providing the textile and apparel industries in the United States and China with a stable and predictable trading environment, and resolving trade concerns through consultations under Paragraph 242 of the Report of the Working Party for the Accession of China to the World Trade Organization. In light of the Memorandum of Understanding, and consistent with its objectives, the Committee has terminated further consideration of all textile safeguard requests that were pending on the date the Memorandum of Understanding was signed, November 8, 2005.

James C. Leonard III,
Chairman, Committee for the Implementation of Textile Agreements.

[FR Doc. 05-23460 Filed 11-28-05; 8:45 am]

BILLING CODE 3510-DS